DEPARTMENT OF THE INTERIOR

Bureau of Land Management

[LLAZ910000.L12100000.XP0000 19X 6100.241A]

State of Arizona Resource Advisory Council Meeting

AGENCY: Bureau of Land Management, Interior.

ACTION: Notice of public meeting.

SUMMARY: In accordance with the Federal Land Policy and Management Act of 1976 and the Federal Advisory Committee Act of 1972, the U.S. Department of the Interior, the Bureau of Land Management (BLM), Arizona Resource Advisory Council (RAC) will meet in Phoenix, Arizona, as indicated below.

DATES: The Arizona RAC will hold a public meeting on Tuesday, December 11, and Wednesday, December 12, 2018. The meeting will include an informational, working-group day on December 11, from 8:30 a.m. to 4:30 p.m., and an official business day on December 12, from 8:30 a.m. to 4 p.m. The Recreation RAC subcommittee will hold a 20-minute public-comment period related to the Forest Service (USFS) fee proposals starting at 1:45 p.m. on December 12. The general RAC will hold a 30-minute comment period for BLM-related topics starting at 2:30 p.m. on December 12.

ADDRESSES: The meeting will be held in the 8th floor conference room at the BLM Arizona State Office, One North Central Avenue, Suite 800, Phoenix, Arizona, 85004.

FOR FURTHER INFORMATION CONTACT: Dolores Garcia, Public Affairs Specialist, at the Bureau of Land Management, Arizona State Office, One North Central Avenue, Suite 800, Phoenix, Arizona, 85004-4427, telephone: 602-417-9500 or email: dagarcia@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member Council advises the Secretary of the Interior, through the BLM, on a variety of planning and management issues associated with public land management in Arizona. All meetings are open to the public in their entirety.

Planned agenda items at the meeting include a BLM overview and member orientation, overview of Department of the Interior priorities and Secretary's Orders, and Division and District updates.

Under the Federal Lands Recreation Enhancement Act, the RAC has been designated as the Recreation RAC and has the authority to review all BLM and the USFS recreation fee proposals in Arizona. The Recreation RAC will review three USFS Forest Service fee proposals at the December meeting—Sollers Cabin rental fees and the Forest Fee Program for the Coronado National Forest, and Spring Valley cabin rental fees for the Kaibab National Forest.

A complete agenda will be posted 2 weeks prior to the meeting on the BLM Arizona RAC website at: https://www.blm.gov/get-involved/resource-advisory-council/near-you/arizona.

Individuals who need special assistance, such as sign language interpretation or other reasonable accommodations, should contact Dolores Garcia, Public Affairs Specialist (see ADDRESSES section), no later than 2 weeks before the start of the meeting.

Before including your address, phone number, email address, or other personally identifiable (PII) information in your comments, please be aware that your entire comment—including your PII—may be made publicly available at any time. While you can ask us in your comment to withhold your PII from public review, we cannot guarantee we will be able to do so.

(Authority: 43 CFR 1784.4-2)

Raymond Suazo,
Arizona State Director.

[FR Doc. 2018-23549 Filed 10-26-18; 8:45 am]

BILLING CODE 4310-32-P